DEPARTMENT OF TRANSPORTATION

Federal Aviation Administration

14 CFR Part 39

[Docket No. 2002-NM-200-AD; Amendment 39-13630; AD 2004-09-39]

RIN 2120-AA64

Airworthiness Directives; Saab Model SAAB 340B Series Airplanes Equipped with Hamilton Sundstrand Propellers

AGENCY: Federal Aviation Administration, DOT.

ACTION: Final rule.

SUMMARY: This amendment adopts a new airworthiness directive (AD), applicable to certain Saab Model SAAB 340B series airplanes equipped with Hamilton Sundstrand propellers. This amendment requires a one-time inspection of two remote controlled circuit breakers (RCCB), located in specific electrical compartments, to identify the part number, and replacement of the RCCBs with new RCCBs having a different part number if necessary. This action is necessary to ensure removal of 35-ampere (amp) RCCBs on a 50-amp electrical circuit. Incorrect RCCBs on an electrical circuit could result in erroneous tripping of the RCCBs (even though an overload condition does not exist), premature failure of the RCCBs, loss of power to the feather pump system, and consequent reduced controllability of the airplane. This action is intended to address the identified unsafe condition.

DATES: Effective June 15, 2004.

The incorporation by reference of a certain publication listed in the regulations is approved by the Director of the Federal Register as of June 15, 2004.

ADDRESSES: The service information referenced in this AD may be obtained from Saab Aircraft AB, SAAB Aircraft Product Support, S-581.88, Linköping, Sweden. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Rosanne Ryburn, Aerospace Engineer, International Branch, ANM-116, FAA, Transport Airplane Directorate, 1601 Lind Avenue, SW., Renton, Washington 98055-4056; telephone (425) 227-2139; fax (425) 227-1149.

SUPPLEMENTARY INFORMATION: A proposal to amend part 39 of the Federal Aviation Regulations (14 CFR part 39) to include an airworthiness directive (AD) that is applicable to certain Saab Model SAAB 340B series airplanes equipped with Hamilton Sundstrand propellers was published in the Federal Register on November 18, 2002 (67 FR 69491). That action proposed to require a one-time inspection of two remote controlled circuit breakers (RCCB), located in specific electrical compartments, to identify the part number, and replacement of the RCCBs with new RCCBs having a different part number if necessary.

Comments

Interested persons have been afforded an opportunity to participate in the making of this amendment. Due consideration has been given to the single comment received.

Request To Clarify RCCBs in the “Parts Installation” Paragraph

The commenter requests that the RCCBs in the “Parts Installation” paragraph (paragraph (b) of the proposed AD) be clarified. The commenter notes that the referenced Saab service bulletin refers to two specific RCCBs while the proposed AD does not refer to any specific RCCBs. The commenter also states that the RCCBs are used in a number of different applications in SAAB Model 340B series airplanes. The commenter suggests the “Parts Installation” paragraph be revised to state: “As of the effective date of this AD, no person shall install an RCCB 29KFC, P/N M83383-02-07, in electrical compartment 407VU or RCCB 30KFC, P/N M83383-02-07, in electrical compartment 408VU, on any airplane with Hamilton Sundstrand propeller installed.”

The FAA agrees that the RCCBs in “Parts Installation” paragraph (b) of the final rule be clarified for the reasons stated by the commenter. Accordingly we have revised paragraph (b) of the final rule to state: “As of the effective date of this AD, no person shall install P/N M83383-02-07 at RCCB 29KFC in electrical compartment 407VU or RCCB 30KFC in electrical compartment 408VU, on any airplane equipped with Hamilton Sundstrand propellers.”

Request To Clarify RCCBs in the “Explanation of Relevant Service Information” Paragraph

The commenter requests that the RCCBs in the “Explanation of Relevant Service Information” paragraph of the proposed AD be clarified for the reasons stated in the previous request (i.e. “Request to Clarify RCCBs in the ‘Parts Installation’ Paragraph”). The commenter suggests that the “Explanation of Relevant Service Information” paragraph be revised to read “* * * identify the part number of the RCCB 29KFC in the electrical compartment 407VU and RCCB 30KFC located in electrical compartment * * *”

We agree that the RCCBs in the “Explanation of Relevant Service Information” paragraph of the proposed AD be clarified for the reasons given by commenter. As suggested by the commenter, RCCB 29KFC and RCCB 30KFC should be specified in the “Explanation of Relevant Service Information” paragraph. However, because the preamble of the proposed AD is not repeated in the final rule, no change is necessary to the final rule.

Request To Revise Applicable Number of Airplanes

The commenter also requests to revise the estimated number of U.S. airplanes listed in the “Cost Impact” paragraph of the proposed AD. The commenter states that the SAAB service bulletin is effective for airplanes equipped with Hamilton Sundstrand propellers only and suggests that the figure for airplanes of U.S. registry should be changed from 251 to 115 airplanes.

We agree to revise the estimated number of U.S. airplanes listed in the “Cost Impact” paragraph of the final rule. However, we do not agree that the number of airplanes be changed to 115 airplanes of U.S. registry. The total number of airplanes on the U.S. registry is 190 airplanes (128 airplanes in service and 62 airplanes out of service). We must include out of service airplanes in our estimate, as we do not know when the airplanes may be put back in service. Therefore, we have revised the estimated number of U.S. airplanes in the “Cost Impact” paragraph of the final rule to 190 airplanes of U.S. registry and have revised the cost impact figures.

Conclusion

After careful review of the available data, including the comments noted above, the FAA has determined that air safety and the public interest require the adoption of the rule with the changes described previously. The FAA has determined that these changes will neither increase the economic burden on any operator nor increase the scope of the AD.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance. However, for clarity and consistency in this final rule, we have retained the language of the NPRM regarding that material.

Change in Labor Rate

The FAA has recently reviewed the figures it has used over the past several years in calculating the economic impact of AD activity. In order to account for various inflationary costs in the airline industry, the FAA has determined that it is necessary to increase the labor rate used in these calculations from $60 per work hour to $65 per work hour. The cost impact information, below, has been revised to reflect this increase in the specified hourly labor rate.

Cost Impact

The FAA estimates that 190 airplanes of U.S. registry will be affected by this AD, that it will take approximately 1 work hour per airplane to accomplish the required actions, and that the average labor rate is $65 per work hour. Based on these figures, the cost impact of the AD on U.S. operators is estimated to be $12,350, or $65 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-09-39 Saab Aircraft AB: Amendment 39-13630. Docket 2002-NM-200-AD.

Applicability: Model SAAB 340B series airplanes equipped with Hamilton Sundstrand propellers, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent erroneous tripping of the remote controlled circuit breakers (RCCB) (even though an overload condition does not exist), premature failure of the RCCBs, loss of power to the feather pump system, and consequent reduced controllability of the airplane; accomplish the following:

Inspection and Replacement, If Necessary

(a) Within 6 months after the effective date of this AD, perform a one-time inspection of RCCB 29KFC located in electrical compartment 407VU, and RCCB 30KFC located in electrical compartment 408VU, to identify the part number (P/N), per the Accomplishment Instructions of Saab Service Bulletin 340-61-038, dated January 30, 2002.

(1) If both RCCBs are identified as P/N M83383-01-09, no further action is required by this paragraph.

(2) If any RCCB is identified as P/N M83383-02-07, prior to further flight, replace the RCCB with an RCCB having P/N M83383-01-09, per the service bulletin.

Part Installation

(b) As of the effective date of this AD, no person shall install P/N M83383-02-07 at RCCB 29KFC in electrical compartment 407VU, or RCCB 30KFC in electrical compartment 408VU, on any airplane equipped with Hamilton Sundstrand propellers.

Alternative Methods of Compliance

(c) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Saab Service Bulletin 340-61-038, dated January 30, 2002. This incorporation by reference was approved by the Director of the Federal Register in accordance with 5 U.S.C. 552(a) and 1 CFR part 51. Copies may be obtained from Saab Aircraft AB, SAAB Aircraft Product Support, S-581.88, Linköping, Sweden. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 3: The subject of this AD is addressed in Swedish airworthiness directive 1-172, dated January 31, 2002.

Effective Date

(f) This amendment becomes effective on June 15, 2004.

Issued in Renton, Washington, on April 29, 2004.
Kevin M. Mullin,
Acting Manager, Transport Airplane Directorate, Aircraft Certification Service.

[FR Doc. 04-10372 Filed 5-10-04; 8:45 am]

BILLING CODE 4910-13-P